DEPARTMENT OF THE INTERIOR

Bureau of Land Management

[LLIDB00000 L11500000.CB0000 LXSS024D0000: 4500008921]

Notice of Public Meeting: Resource Advisory Council to the Boise District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will hold a meeting as indicated below.

DATES: The meeting will be held October 7, 2009 at the Boise District Offices beginning at 9 a.m. and adjourning at 4 p.m. Members of the public are invited to attend, and comment periods will be held during the course of the day.

FOR FURTHER INFORMATION CONTACT: MJ Byrne, Public Affairs Officer and RAC Coordinator, BLM Boise District, 3948 Development Ave., Boise, ID 83705, Telephone (208) 384-3393.

SUPPLEMENTARY INFORMATION: The 15-member Council advises the Secretary of the Interior, through the BLM, on a variety of planning and management issues associated with public land management in southwestern Idaho. Items on the agenda will include update on development of the Gateway West 500KV Electrical Transmission Lines, and accompanying Environmental Impact Statement (EIS); an update on the status of Economic Recovery and Reinvestment Act of 2009 (ARRA) projects in the Boise District; a review of public comments received on draft alternatives for the EIS for the Four Rivers Field Office Resource Management Plan (RMP), and; updates to the charters of some existing and new subgroups to be formed will be reported on. Hot Topics, including an update on actions related to the Owyhee Management Act, will be discussed by the District Manager. Field Office managers will provide highlights for discussion on activities in their offices. Agenda items and location may change due to changing circumstances. The RAC will be invited to observe a BLM gather of wild horses from one of the District's Herd Management Areas scheduled to take place during the month of October. If the gather lands on the date of the RAC meeting, the agenda will be changed to accommodate this activity. All RAC meetings are open to the public. The public may present written or oral comments to members of the Council. At each full RAC meeting time is provided in the agenda for hearing public comments. Depending on the number of persons wishing to comment and time available, the time for individual oral comments may be limited. Individuals who plan to attend and need special assistance, should contact the BLM Coordinator as provided above.

Dated: September 2, 2009.
David Wolf,
Acting District Manager.

[FR Doc. E9-21739 Filed 9-8-09; 8:45 am]

BILLING CODE 4310-GG-P